DEPARTMENT OF JUSTICE

Drug Enforcement Administration

Manufacturer of Controlled Substances; Notice of Application

Pursuant to § 1301.33(a) of Title 21 of the Code of Federal Regulations (CFR), this is notice that on January 9, 2003, Rhodes Technologies, 498 Washington Street, Coventry, Rhode Island 02816, made application by renewal and by letters dated January 28, 2003 and February 26, 2003, to the Drug Enforcement Administration (DEA) for registration as a bulk manufacturer of the basic class of Schedule I and II controlled substances listed below:

Drug | Schedule
Codeine (9050) | II
Oxycodone (9143) | II
Thebaine (9333) | II
Methylphenidate (1724) | II
Tetrahydrocannabinols (7370) | I
Hydromorphone (9150) | II
Hydrocodone (9193) | II
Fentanyl (9801) | II
Noroxymorphone (9668) | II
Dihydrocodeine (9120) | II

The firm plans to produce bulk products for conversion and distribution to its customers.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Drug Operations Section, Domestic Drug Unit (ODOD) and must be filed no later than 60 days from publication.

Dated: March 14, 2003.
Laura M. Nagel,
Deputy Assistant Administrator, Office of Diversion Control, Drug Enforcement Administration.

[FR Doc. 03-7827 Filed 4-1-03; 8:45 am]

BILLING CODE 4410-09-M